FEDERAL RESERVE SYSTEM

Sunshine Act Meeting

Federal Register Citation of Previous Announcement: 65 FR 38281, June 20, 2000.

Previously Announced Time and Date of the Meeting: 12 noon, Monday, June 26, 2000.

Changes in the Meeting: Addition of the following closed item(s) to the meeting: Future capital framework.

Contact Person for More Information: Lynn S. Fox, Assistant to the Board; 202-452-3204.

Supplementary Information: You may call 202-452-3206 beginning at approximately 5 p.m. two business days before the meeting for a recorded announcement of bank and bank holding company applications scheduled for the meeting; or you may contact the Board's Web site at http://www.federalreserve.gov for an electronic announcement that not only lists applications, but also indicates procedural and other information about the meeting.

Dated: June 21, 2000.
Jennifer J. Johnson,
Secretary of the Board.

[FR Doc. 00-16148 Filed 6-21-00; 4:38 pm]

BILLING CODE 6210-01-P